DEPARTMENT OF HOMELAND SECURITY

Coast Guard

[Docket No. USCG-2022-0047]

Port Access Route Study: Approaches to Maine, New Hampshire, and Massachusetts

AGENCY: Coast Guard, DHS.

ACTION: Notice of availability; final report.

SUMMARY: The First Coast Guard District announces the completion of the Approaches to Maine, New Hampshire, and Massachusetts Port Access Route Study (MNMPARS). This study was conducted to evaluate the adequacy of existing vessel routing measures and determine whether additional vessel routing measures are necessary for port approaches to Maine, New Hampshire, and Massachusetts and international and domestic transit areas in the First Coast Guard District area of responsibility. The MNMPARS considered whether routing measure revisions were necessary to improve navigation safety due to several factors such as planned or potential offshore development, current port capabilities and planned improvements, increased vessel traffic, changing vessel traffic patterns, weather, or navigational difficulty. The MNMPARS final report is available for viewing and download from the Federal Register docket at http://www.regulations.gov or at the Coast Guard Navigation Center (NAVCEN) website at https://www.navcen.uscg.gov/port-access-route-study-reports. The recommendations of this study may lead to future rulemakings or appropriate international agreements.

FOR FURTHER INFORMATION CONTACT: If you have questions about this notice, call or email LTJG Thomas Davis, First Coast Guard District (dpw), U.S. Coast Guard: telephone (617) 223-8632, email SMB-D1Boston-MNMPARS@uscg.mil.

SUPPLEMENTARY INFORMATION:

I. Table of Abbreviations

BOEM Bureau of Ocean Energy Management

DHS Department of Homeland Security

MNMPARS Approaches to Maine, New Hampshire, and Massachusetts Port Access Route Study

NAVCEN United States Coast Guard Navigation Center

NEPA National Environmental Policy Act

OREI Offshore Renewable Energy Infrastructure

PARS Port Access Route Study

TSS Traffic Separation Scheme

USCG United States Coast Guard

II. Background and Purpose

Under section 70003 of title 46 of the United States Code (46 U.S.C. 70003(c)), the Commandant of the U.S. Coast Guard (USCG) may designate necessary fairways and traffic separation schemes (TSSs) to provide safe access routes for vessels proceeding to and from U.S. ports. The designation of fairways and TSSs recognizes the paramount right of navigation over all other uses in the designated areas.

Before establishing or adjusting fairways or TSSs, the USCG must conduct a Port Access Route Study (PARS), i.e., a study of potential traffic density and the need for safe access routes for vessels. Through the study process, the USCG must coordinate with federal, state, tribal, and foreign state agencies (where appropriate) and consider the views of maritime community representatives, environmental groups, and other stakeholders. The primary purpose of this coordination is, to the extent practicable, to reconcile the need for safe access routes with other reasonable waterway uses such as anchorages, construction, operation of renewable energy facilities, marine sanctuary operations, commercial and recreational activities, and other uses.

A. When was the MNMPARS conducted? On March 31, 2022, the Coast Guard commenced the Approaches to Maine, New Hampshire, and Massachusetts Port Access Route Study (MNMPARS) by publishing a 45-day Notice of Study; request for comments in the Federal Register (87 FR 18800). The purpose of the MNMPARS was to evaluate the adequacy of existing vessel routing measures and determine whether additional vessel routing measures are necessary for port approaches to Maine, New Hampshire, and Massachusetts and international and domestic transit areas in the First Coast Guard District area of responsibility.

On June 28, 2022, the First Coast Guard District published a 60-day notification of Inquiry and Public Meetings; request for comments (87 FR 38418). This supplemental notice announced a schedule for six public meetings and sought additional public comments concerning more specific navigational safety issues. The notification requested responses to several general and port-specific questions that were based on analysis of historical traffic data and public comments received from the original Notice of Study. Of the six public meetings, four were conducted in both in-person and virtual formats, one was in-person only, and one was virtual only.

On January 3, 2023, the First Coast Guard District published a Notice of Availability of Draft Report; request for comments (88 FR 83). Due to a publication error, an additional notice (88 FR 2108) was issued on January 12, 2023, to ensure the public was afforded a full 30-day comment period.

A total of 42 comments were received during the study's 135 days of open comment period. Comments were submitted by representatives of the maritime community, federal and state governmental agencies, environmental groups, non-governmental organizations, and other stakeholders. Comments were provided during public meetings, via email, and submitted directly to the electronic docket. Oral comments provided during public meetings can be viewed in the individual meeting recordings posted to the “Documents” section of the public docket.

B. What is the study area? The study area includes regions of the Gulf of Maine, New Hampshire Seacoast, and Massachusetts Bay; an approximate 20,500 square nautical mile area. Specific geographic positions and a graphic representation of the study area can be found in the MNMPARS report.

C. How did the First Coast Guard District conduct this PARS? The First Coast Guard District conducted the MNMPARS in accordance with the Ports and Waterways Safety Act (PWSA), employing methodology from applicable USCG policies including the framework outlined in Appendix D of USCG Commandant Instruction (COMDTINST) 16003.2B, Marine Planning to Operate and Maintain the Marine Transportation System (MTS) and Implement National Policy.

D. Conclusions and proposed actions. The First Coast Guard District concluded that environmental factors, changes in fishery management and species distributions, port development projects, and offshore renewable energy infrastructure may result in the introduction of larger vessel classes, increased traffic densities, and displacement of traditional transit routes. To mitigate a heightened risk of marine casualties, the First Coast Guard District provided 10 proposed actions within the MNMPARS report including implementation of 5 shipping safety fairways and 5 recommendations related to the siting and impact of offshore wind energy turbines.

III. Viewing the Report and Related Comments

To view the final MNMPARS report in the docket, go to https://www.regulations.gov/, and insert “USCG-2022-0047” in the “search box”. Click “Search”. Then, scroll to find the document entitled “FINAL REPORT Approaches to Maine, New Hampshire, and Massachusetts Port Access Route Study” under the document type “Supporting & Related Material.”

The MNMPARS report is also available from the NAVCEN website at https://www.navcen.uscg.gov/port-access-route-study-reports.

A. How do I find and browse comments and documents posted to the docket? On the previous version of Regulations.gov, users browsed for comments on the Docket Details page. However, since comments are made on individual documents, not dockets, new Regulations.gov organizes comments under their corresponding document. To access comments and documents submitted to the MNMPARS go to https://www.regulations.gov/ and insert “USCG-2022-0047” in the “search box.” Click “Search.” Then scroll down to and click on the most recent “notice” entitled “Port Access Route Study: Approaches to Maine, New Hampshire, and Massachusetts.” This will open to the “Document Details” page. Then click on the “View Related Comments” tab or the “View More Documents” tab to view all the comments and documents posted to the MNMPARS.

B. If you need additional help navigating the new Regulations.gov. For additional step by step instructions to view submitted comments or other documents please see the Frequently Asked Questions (FAQs) at https://www.regulations.gov/faqs or call or email the person in the FOR FURTHER INFORMATION CONTACT section of this document for alternate instructions.

C. Privacy Act: Anyone can search the electronic form of comments received into any of our dockets by the name of the individual submitting the comment (or signing the comment, if submitted on behalf of an association, business, labor union, etc.). You may review a Privacy Act, system of records notice regarding DHS's eRulemaking in the March 11, 2020, issue of the Federal Register (85 FR 14226).

IV. Future Actions

As detailed in the final report, the First Coast Guard District recommends that multiple shipping safety fairways be implemented within the MNMPARS study area. Coast Guard Headquarters Assistant Commandant for Prevention, Office of Navigation Systems (CG-NAV) will consider these recommendations and determine whether to move forward with the rulemaking process.

Under the National Environmental Policy Act (NEPA), the Coast Guard serves as a cooperating agency to the Bureau of Ocean Energy Management (BOEM). In this capacity, the First Coast Guard District has and will continue to coordinate with BOEM throughout the various stages of planning and development of offshore renewable energy infrastructure (OREI) within the study area and will provide evaluations of the potential impacts any proposed OREI may have on the Marine Transportation System, safety of navigation, traditional waterway uses, and the Coast Guard's ability to conduct its 11 statutory missions.

The First Coast Guard District actively monitors all waterways subject to its jurisdiction to help ensure navigation safety. As such, the First Coast Guard District will continue to monitor the area of study for changing conditions and consider appropriate actions to promote waterway and user safety.

This notice is published under the authority of 5 U.S.C. 552(a).

Dated: March 27, 2023.
J.W. Mauger,
Rear Admiral, U.S. Coast Guard Commander, First Coast Guard District.

[FR Doc. 2023-07149 Filed 4-5-23; 8:45 am]

BILLING CODE 9110-04-P